DEPARTMENT OF JUSTICE

Drug Enforcement Administration

Corrado Di Martino, M.D.; Revocation of Registration

On July 6, 2001, the Deputy Assistant Administrator, Office of Diversion Control, Drug Enforcement Administration (DEA), issued an Order to Show Cause (OTSC) by certified mail to Corrado Di Martino, M.D., notifying him of an opportunity to show cause as to why the DEA should not revoke his DEA Certificate of Registration, AD6909951, pursuant to 21 U.S.C. 824(a)(3), and deny any pending applications for renewal of such registration pursuant to 21 U.S.C. 823(f), on the grounds that Dr. Di Martino was not authorized by the Commonwealth of Massachusetts to handle controlled substances. The order also notified Dr. Di Martino that should no request for hearing be filed within 30 days, his right to a hearing would be deemed waived.

The OTSC was sent to Dr. Di Martino at his DEA registered premises in Southbridge, Massachusetts. A postal delivery receipt was signed July 26, 2001, by Dr. Di Martino, indicating the OTSC was received. To date, no response has been received from Dr. Di Martino nor anyone purporting to represent him.

Therefore, the Deputy Administrator, finding that (1) 30 days having passed since the receipt of the Order to Show Cause, and (2) no request for a hearing having been received, concludes that Dr. Di Martino is deemed to have waived his right to a hearing. Following a complete review of the investigative file in this matter, the Deputy Administrator now enters his final order without a hearing pursuant to 21 CFR 1301.43(d) and (e), and 1301.46.

The Deputy Administrator finds as follows. Dr. Di Martino currently possesses DEA Certifying of Registration AD6909951, issued to him in Massachusetts. By Order of the Commonwealth of Massachusetts Board of Registration in Medicine (Board), dated October 11, 2000, Dr. Di Martino's medical license was summarily suspended, upon the finding that “based upon the information set forth in the Motion for Summary Suspension* * * the health, safety, and welfare of the public necessitates said suspension.” The investigative file contains no evidence that the Summary Suspension of Dr. Di Martino's medical license has been lifted.

Therefore, the Deputy Administrator concludes that Dr. Di Martino is not currently licensed or authorized to handle controlled substances in Massachusetts.

The DEA does not have the statutory authority pursuant to the Controlled Substances Act to issue or to maintain a registration if the applicant or registrant is without state authority to handle controlled substances in the state in which he or she practices. See 21 U.S.C. 823(f), and 824(a)(3). This prerequisite has been consistently upheld in prior DEA cases. See Graham Travers Schuler, M.D., 65 FR 50,570 (2000); Romeo J. Perez, M.D., 62 FR 16,193 (1997); Demetris A. Green, M.D., 61 FR 60,728 (1996); Dominick A. Ricci, M.D., 58 FR 51,104 (1993).

In the instant case, the Deputy Administrator finds the Government has presented evidence demonstrating that Dr. Di Martino is not authorized to practice medicine in Massachusetts, and therefore, the Deputy Administrator infers that Dr. Di Martino is also not authorized to handle controlled substances in Massachusetts, the state in which he holds his DEA Certificate of Registration.

Accordingly, the Deputy Administrator of the Drug Enforcement Administration, pursuant to the authority vested in him by 21 U.S.C. 823 and 824 and 28 CFR 0.100(b) and 0.104, hereby orders that the DEA Certificate of Registration AD6909951, previously issued to Corrado Di Martino, M.D. be, and it hereby is, revoked. The Deputy Administrator hereby further orders that any pending applications for renewal or modification of said registration be, and hereby are, denied. This order is effective June 19, 2002.

Dated: May 6, 2002.
John B. Brown, III,
Deputy Administrator.

[FR Doc. 02-12488 Filed 5-17-02; 8:45 am]

BILLING CODE 4410-09-M